DEPARTMENT OF COMMERCE

National Oceanic and Atmospheric Administration

[I.D. 082106B]

Endangered and Threatened Species: Notice of Availability of the Status Review for Atlantic Salmon in the United States

AGENCY: National Marine Fisheries Service (NMFS), National Oceanic and Atmospheric Administration (NOAA), Commerce.

ACTION: Notice of Availability of the Status Review of Atlantic Salmon.

SUMMARY: A Biological Review Team (BRT) consisting of biologists from the Maine Atlantic Salmon Commission, Penobscot Indian Nation, NMFS, and U.S. Fish and Wildlife Service (FWS) have completed a Status Review of Atlantic salmon (Status Review for Anadromous Atlantic Salmon (Salmo salar)) in the United States.

ADDRESSES: Requests for a copy of the Status Review should be addressed to Marcia Hobbs, NMFS, Northeast Regional Office, Protected Resources Division, One Blackburn Drive Gloucester, MA 01930. A copy of the Status Review can also be downloaded from the following web address: http://www.nmfs.noaa.gov/pr/species/statusreviews.htm

FOR FURTHER INFORMATION CONTACT: Rory Saunders, NMFS Northeast Regional Office, (207) 866-4049, or Pat Scida, NMFS Northeast Regional Office, (978) 281-9208.

SUPPLEMENTARY INFORMATION:

Background

The ESA requires that FWS and NMFS (Services) make listing determinations based on the best scientific and commercial information available after conducting a review of the status of species and after taking into account efforts to protect the species. In 1999 the Services completed a review of the biological status of Atlantic salmon in the United States. Based on that status review, in November 2000, the Services listed all naturally reproducing remnant populations of Atlantic salmon from the Kennebec River downstream of the former Edwards Dam site, northward to the mouth of the St. Croix River (excluding those fish inhabiting the mainstem of the Penobscot River above the site of the former Bangor Dam) as an endangered Distinct Population Segment (DPS) under the ESA. A decision regarding whether or not to include salmon that inhabited the mainstems of the Kennebec River above the former site of Edwards Dam and the Penobscot River above the former site of Bangor Dam was deferred by the Services during the initial listing action pending genetic analysis of these populations.

The 2006 Status Review

In response to the recent availability of the genetic data for these populations, the Services convened a BRT in late 2003 consisting of biologists from the Maine Atlantic Salmon Commission, Penobscot Indian Nation, NMFS, and FWS. The BRT was charged with reviewing and evaluating all relevant scientific information relating to the current DPS delineation, determining the conservation status of the populations for which a decision was deferred in 2000, and assessing their relationship to the currently listed Gulf of Maine (GOM) DPS.

The BRT has completed its review of the biological status of Atlantic salmon in the United States, including an assessment of the adequacy of protective measures, the extent of implementation of these measures, and the effect of these measures on Atlantic salmon and their habitat. This Status Review is an update to the 1999 Atlantic salmon Status Review and discusses the status of salmon in the Androscoggin, Kennebec, and Penobscot Rivers relative to the currently listed GOM DPS.

Recent genetic studies indicate that salmon inhabiting the Kennebec and Penobscot Rivers are more closely related to other salmon inhabiting the GOM DPS than they are to those found in Canada and other parts of the world. Based on these studies, as well as other zoogeographic, hydrographic, and life history data, the new Status Review concludes that the GOM DPS should be comprised of all anadromous Atlantic salmon whose freshwater range occurs in the watersheds from the Androscoggin River northward along the Maine coast to the Dennys River, including all associated conservation hatchery populations used to supplement natural populations; currently, such populations are maintained at Green Lake and Craig Brook National Fish Hatcheries. A population viability analysis (PVA) was performed for the GOM DPS, including the Androscoggin, Kennebec, and Penobscot River populations, and is discussed in the new Status Review. The PVA is a way to estimate population growth or decline over time. In the new Atlantic salmon Status Review, PVA projections suggest that the likelihood of extinction of the GOM DPS of Atlantic salmon ranges from 19 percent to 75 percent within the next 100 years. The Status Review also includes a detailed analysis of threats to the DPS (as delineated by the BRT).

NMFS contracted with the Center for Independent Experts to have the 2006 Status Review independently peer reviewed. The reviewers were asked to address the following four questions:

(1) Is the species delineation supported by the information presented?

(2) Does the status review include and cite the best available scientific and commercial information available on the species and threats to it and its habitat?

(3) Are the scientific conclusions sound and derived logically from the results?

(4) Where available, are opposing scientific studies or theories acknowledged and discussed?

This review has been completed and provided to the BRT for their consideration and response. The July 2006 version of the status review, which is being made available to the public, contains modifications made by the BRT in light of the comments received from four peer reviewers.

The Services jointly administer the ESA as it applies to anadromous Atlantic salmon. The Northeast Region of NMFS and Region 5 of the FWS have entered into a Statement of Cooperation in order to divide responsibility for ESA implementation in order to enhance efficiency and effectiveness. The Services have agreed that NMFS would be responsible for receiving the status review from the BRT, conducting a peer review on that status review, and determining and preparing any appropriate action under the ESA. It was agreed that NMFS would prepare and publish any associated Federal Register notices. Pursuant to this agreement, NMFS is currently considering the information presented in the new Status Review, the comments from the peer reviewers, and the response of the BRT to the peer reviewers to determine if action under the ESA is warranted. NMFS could determine that a change to the boundaries or conservation status of the existing GOM DPS is warranted, that a separate listing action is warranted, or that no new action is warranted. If NMFS determines that a modification to the existing listing or a new listing is warranted, then a proposed rule will be published along with the rationale for that proposal. A decision regarding NMFS' determination will be published in the Federal Register.

Authority

The authority for this action is the ESA, as amended (16 U.S.C. 1531 et seq.).

Dated: September 18, 2006.
Samuel D. Rauch, III
Deputy Assistant Administrator for Regulatory Programs, National Marine Fisheries Service.

[FR Doc. 06-8100 Filed 9-21-06; 8:45 am]

BILLING CODE 3510-22-S